Title 3—

The President

Proclamation 7860 of January 7, 2005

To Extend Nondiscriminatory Trade Treatment (Normal Trade Relations Treatment) to the Products of Armenia

By the President of the United States of America

A Proclamation

1. Since declaring its independence from the Soviet Union in 1991, Armenia has made considerable progress in enacting market reforms and on February 5, 2003, Armenia acceded to the World Trade Organization (WTO). The extension of unconditional normal trade relations treatment to the products of Armenia will permit the United States to avail itself of all rights under the WTO with respect to Armenia. Armenia has demonstrated a strong desire to build a friendly and cooperative relationship with the United States and has been found to be in full compliance with the freedom of emigration requirements under title IV of the Trade Act of 1974 (the “1974 Act”) (19 U.S.C. 2431 et seq.).

2. Pursuant to section 2001(b) of Public Law 108-429, 118 Stat. 2588, and having due regard for the findings of the Congress in section 2001(a) of said law, I hereby determine that chapter 1 of title IV of the 1974 Act (19 U.S.C. 2431-2439) should no longer apply to Armenia.

3. Section 604 of the 1974 Act (19 U.S.C. 2483), as amended, authorizes the President to embody in the Harmonized Tariff Schedule of the United States the substance of relevant provisions of that Act, or other acts affecting import treatment, and of actions taken thereunder.

NOW, THEREFORE, I, GEORGE W. BUSH, President of the United States of America, acting under the authority vested in me by the Constitution and the laws of the United States, including but not limited to section 2001(b) of Public Law 108-429, and section 604 of the 1974 Act, do proclaim that:

(1) Nondiscriminatory trade treatment (normal trade relations treatment) shall be extended to the products of Armenia, which shall no longer be subject to chapter 1 of title IV of the 1974 Act.

(2) The extension of nondiscriminatory treatment to products of Armenia shall be effective as of the date of signature of this proclamation.

(3) All provisions of previous proclamations and executive orders that are inconsistent with the actions taken in this proclamation are superseded to the extent of such inconsistency.

IN WITNESS WHEREOF, I have hereunto set my hand this seventh day of January, in the year of our Lord two thousand five, and of the Independence of the United States of America the two hundred and twenty-ninth.

B

[FR Doc. 05-770

Filed 1-11-05; 9:02 am]

Billing code 3195-01-P